DEPARTMENT OF ENERGY

Western Area Power Administration

Applications for the 2015 Resource Pool Power Allocations, Sierra Nevada Region

AGENCY: Western Area Power Administration, DOE.

ACTION: Notice of Extension.

SUMMARY: The Western Area Power Administration (Western), a Federal power marketing administration of the Department of Energy, published a Call for 2015 Resource Pool Applications in the Federal Register (74 FR 26671, June 3, 2009) (Call for 2015 Applications). Western issued the Call for 2015 Applications pursuant to the 2004 Power Marketing Plan (Marketing Plan) for the Sierra Nevada Customer Service Region (SNR) (64 FR 34417, June 25, 1999). In the Call for 2015 Applications, Western stated that all applications were due by 4 p.m., PDT, on August 3, 2009. This notice extends the filing date for applications to 4 p.m., PDT, on October 28, 2009.

DATES: As more fully described in the Call for 2015 Applications, entities interested in applying for an allocation of power from SNR must submit applications to Western's Sierra Nevada Customer Service Regional Office at the address below. Applications must be received by 4 p.m., PDT, on October 28, 2009. Applicants are encouraged to submit the application form through electronic mail or to use certified mail. Applications will be accepted via regular mail through the U.S. Postal Service if postmarked at least 3 days before October 28, 2009, and received no later than November 2, 2009. Western will not consider applications that are not received by the prescribed dates. Western will publish a Notice of Proposed Allocations in the Federal Register after evaluating all applications.

ADDRESSES: Applications must be submitted to Ms. Sonja Anderson, Power Marketing Manager, Sierra Nevada Customer Service Region, Western Area Power Administration, 114 Parkshore Drive, Folsom, CA 95630. Applications with an electronic signature may be electronically mailed to 2015RPApps@wapa.gov. If an entity submits an application form electronically and an electronic signature is not available, the applicant must mail the signed application form signature page to the address above, or scan the signed page and send it via electronic mail to 2015RPApps@wapa.gov.

FOR FURTHER INFORMATION CONTACT: Ms. Sonja Anderson, Power Marketing Manager, Sierra Nevada Customer Service Region, Western Area Power Administration, 114 Parkshore Drive, Folsom, CA 95630, (916) 353-4421, or by electronic mail at sanderso@wapa.gov.

SUPPLEMENTARY INFORMATION:

Background

On June 3, 2009, Western published a Call for 2015 Resource Pool Applications in the Federal Register (74 FR 26671, June 3, 2009) pursuant to the Marketing Plan for SNR (64 FR 34417, June 25, 1999). In that notice, Western stated applications were due on August 3, 2009. Western received numerous requests to extend the date for applications. Upon consideration of those requests, Western is extending the date to submit applications from 4 p.m., PDT, on August 3, 2009, to 4 p.m., PDT, October 28, 2009.

This notice is intended only to extend the deadline for filing applications. Applicants must comply with all other requirements identified in the Call for 2015 Applications.

All applications received prior to the date and time prescribed herein shall be considered timely and will be accepted. If an entity has already submitted an application pursuant to the Call for 2015 Applications, it does not need to be resubmitted.

Dated: September 18, 2009.
Timothy J. Meeks,
Administrator.

[FR Doc. E9-23325 Filed 9-25-09; 8:45 am]

BILLING CODE 6450-01-P